COMMISSION ON CIVIL RIGHTS

Sunshine Act Notice

AGENCY: United States Commission on Civil Rights.

ACTION: Notice of meeting.

Date and Time: Friday, April 17, 2009; 9:30 a.m. EDT.

Place: 624 9th St., NW., Room 540, Washington, DC 20425.

Meeting Agenda

This meeting is open to the public.

I. Approval of Agenda.

II. Approval of Minutes of February 20, 2009 and March 30, 2009 Meetings.

III. Announcements.

IV. Staff Director's Report.

V. Program Planning.

• Update on Status of 2009 Statutory Report

• Approval of Findings and Recommendations for the Briefing Report on Department of Justice Voting Rights Enforcement for the 2008 Presidential Election

• Approval of Briefing Report on Provision of Supplemental Educational Services under the No Child Left Behind Act

• Approval of Concept Paper for a Commission Briefing on Health Disparities (Taylor)

V. Management & Operations.

• Update on the Status of Briefing Reports

• Motion Regarding Evaluation of Staff Director Performance (Melendez)

• Motion Regarding Staff Director's Provision of Quarterly Financial Reports to Commission (Melendez)

• Motion Regarding Commission Preparation of a Public Service Announcement (Melendez)

• Motion Regarding Review and Standardization of Agency Regulations, Administrative Instructions and Other Practices (Melendez)

VI. State Advisory Committee Issues.

• Tennessee SAC

VII. Adjourn.

for Further Information Contact: Lenore Ostrowsky, Acting Chief, Public Affairs Unit (202) 376-8582. TDD: (202) 376-8116.

Persons with a disability requiring special services, such as an interpreter for the hearing impaired, should contact Pamela Dunston at least seven days prior to the meeting at 202-376-8105. TDD: (202) 376-8116.

Dated: April 7, 2009.
David P. Blackwood,
General Counsel.

[FR Doc. E9-8261 Filed 4-7-09; 4:15 pm]

BILLING CODE 6335-01-P